DEPARTMENT OF TRANSPORTATION

Federal Aviation Administration

14 CFR Part 39

[Docket No. FAA-2006-24787; Directorate Identifier 2006-NM-043-AD; Amendment 39-14760; AD 2006-19-03]

RIN 2120-AA64

Airworthiness Directives; McDonnell Douglas Model DC-10-10 and DC-10-10F Airplanes; Model DC-10-15 Airplanes; Model DC-10-30 and DC-10-30F (KC-10A and KDC-10) Airplanes; Model DC-10-40 and DC-10-40F Airplanes; Model MD-10-10F and MD-10-30F Airplanes; and Model MD-11 and MD-11F Airplanes

AGENCY: Federal Aviation Administration (FAA), Department of Transportation (DOT).

ACTION: Final rule.

SUMMARY: The FAA is adopting a new airworthiness directive (AD) for certain McDonnell Douglas transport category airplanes. This AD requires fabrication and installation of a wire harness guard in the right wheel well of the main landing gear (MLG), and related investigative and corrective actions as necessary. For certain airplanes, this AD also requires replacement of the electrical connectors of the auxiliary hydraulic pumps with improved electrical connectors and related investigative and corrective actions. This AD results from fuel system reviews conducted by the manufacturer. We are issuing this AD to prevent damage to the wire support bracket and wiring of the auxiliary hydraulic pump and, for certain airplanes, water intrusion through the electrical connectors of the auxiliary hydraulic pump. These conditions could lead to a potential ignition source in the right wheel well of the MLG around the fuel tank, which, in combination with flammable fuel vapors, could result in fuel tank explosions and consequent loss of the airplane.

DATES: This AD becomes effective October 17, 2006.

The Director of the Federal Register approved the incorporation by reference of certain publications listed in the AD as of October 17, 2006.

ADDRESSES: You may examine the AD docket on the Internet at http://dms.dot.gov or in person at the Docket Management Facility, U.S. Department of Transportation, 400 Seventh Street, SW., Nassif Building, Room PL-401, Washington, DC.

Contact Boeing Commercial Airplanes, Long Beach Division, 3855 Lakewood Boulevard, Long Beach, California 90846, Attention: Data and Service Management, Dept. C1-L5A (D800-0024), for service information identified in this AD.

FOR FURTHER INFORMATION CONTACT: Ken Sujishi, Aerospace Engineer, Cabin Safety/Mechanical and Environmental Systems Branch, ANM-150L, FAA, Los Angeles Aircraft Certification Office, 3960 Paramount Boulevard, Lakewood, California 90712-4137; telephone (562) 627-5353; fax (562) 627-5210.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain McDonnell Douglas Model DC-10-10 and DC-10-10F airplanes; Model DC-10-15 airplanes; Model DC-10-30 and DC-10-30F (KC-10A and KDC-10) airplanes; Model DC-10-40 and DC-10-40F airplanes; Model MD-10-10F and MD-10-30F airplanes; and Model MD-11 and MD-11F airplanes. That NPRM was published in the Federal Register on May 17, 2006 (71 FR 28622). That NPRM proposed to require fabrication and installation of a wire harness guard in the right wheel well of the main landing gear (MLG), and related investigative and corrective actions as necessary. For certain airplanes, that NPRM also proposed to require replacement of the electrical connectors of the auxiliary hydraulic pumps with improved electrical connectors and related investigative and corrective actions.

Comments

We provided the public the opportunity to participate in the development of this AD. We have considered the comments received.

Support for the NPRM

Two private citizens support the NPRM.

Request To Allow Replacement With FAA-Approved Equivalent Parts

The Modification and Replacement Parts Association (MARPA) requests that we append the language in paragraph (f)(2) of the NPRM to add the following words, “or FAA-approved equivalent part number.” MARPA contends that the addition of those words would remove any possible conflict with 14 CFR 21.303 that may be raised with respect to the unmodified text in paragraph (f)(2) of the NPRM.

We infer that the commenter would like the AD to permit installation of any equivalent parts manufacturer approval (PMA) parts so that it is not necessary for an operator to request approval of an alternative method of compliance (AMOC) in order to install an “equivalent” PMA part. Whether an alternative part is “equivalent” in adequately resolving the unsafe condition can only be determined on a case-by-case basis based on a complete understanding of the unsafe condition. The Transport Airplane Directorate's policy is that, in order for operators to replace a part with one that is not specified in the AD, they must request an AMOC. This is necessary so that we can make a specific determination that an alternative part is or is not susceptible to the same unsafe condition.

In response to the commenter's statement regarding a “possible conflict with 14 CFR 21.303,” under which the FAA issues PMAs, this statement appears to reflect a misunderstanding of the relationship between ADs and the certification procedural regulations of part 21 of the Federal Aviation Regulations (14 CFR part 21). Those regulations, including section 21.303 of the Federal Aviation Regulations (14 CFR 21.303), are intended to ensure that aeronautical products comply with the applicable airworthiness standards. But ADs are issued when, notwithstanding those procedures, we become aware of unsafe conditions in these products or parts. Therefore, an AD takes precedence over design approvals when we identify an unsafe condition, and mandating installation of a certain part number in an AD is not at variance with section 21.303.

The AD provides a means of compliance for operators to ensure that the identified unsafe condition is addressed appropriately. For an unsafe condition attributable to a part, the AD normally identifies the replacement parts necessary to obtain that compliance. As stated in section 39.7 of the Federal Aviation Regulations (14 CFR 39.7): “Anyone who operates a product that does not meet the requirements of an applicable airworthiness directive is in violation of this section.” Unless an operator obtains approval for an AMOC, replacing a part with one not specified by the AD would make the operator subject to an enforcement action and result in a civil penalty. No change to the AD is necessary in this regard.

Request for Agreement on Parts Replacement

MARPA also points out that another AD issued from a Directorate other than the Transport Airplane Directorate does contain the wording that he has requested. The commenter contends that, “when two parallel departments of the same government agency maintain policies and practices that conflict one with the other, indeed even to opposite ends, there needs to evolve a solution that will remove the conflict.” MARPA further contends that “to harbor an inherent conflict in how an issue is treated is an invitation for the courts to remove that conflict and is [sic] so doing invalidates those orders based upon the interpretation found to be defective.” The commenter, therefore, requests that the FAA agree, in a timely manner, on how the matter is to be treated.

The FAA acknowledges that the Directorates are not consistent in their policies and practices on this issue. We recognize the need for standardization on this issue and currently are in the process of reviewing it at the national level.

The Transport Airplane Directorate considers that to delay this particular AD action would be inappropriate, since we have determined that an unsafe condition exists and that replacement of certain parts must be accomplished to ensure continued safety. Therefore, no change has been made to the final rule in this regard.

Conclusion

We have carefully reviewed the available data, including the comments received, and determined that air safety and the public interest require adopting the AD as proposed.

Costs of Compliance

There are about 627 airplanes of the affected design in the worldwide fleet. This AD affects about 303 airplanes of U.S. registry. The following table provides the estimated costs, at an average labor rate of $80 per hour, for U.S. operators to comply with this AD.

Estimated Costs
Models | Action | Work hours | Parts | Cost per airplane | Number of U.S.- registered airplanes | Fleet cost
DC-10-10, DC-10-10F, DC-10-15, DC-10-30, DC-10-30F (KC-10A and KDC-10), DC-10-40, DC-10-40F, MD-10-10F, and MD-10-30F airplanes | Fabrication and installation | 3 | $889 | $1,129 | 206 | $232,574
| Replacement | 2 | 290 | 450 | 206 | 92,700
MD-11 and MD-11F airplanes | Fabrication and installation | 3 | 866 | 1,106 | 97 | 107,282

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-19-03 McDonnell Douglas: Amendment 39-14760. Docket No. FAA-2006-24787; Directorate Identifier 2006-NM-043-AD.

Effective Date

(a) This AD becomes effective October 17, 2006.

Affected ADs

(b) None.

Applicability

(c) This AD applies to the McDonnell Douglas airplanes identified in paragraphs (c)(1) and (c)(2) of this AD, certificated in any category.

(1) Model DC-10-10 and DC-10-10F airplanes; Model DC-10-15 airplanes; Model DC-10-30 and DC-10-30F (KC-10A and KDC-10) airplanes; Model DC-10-40 and DC-10-40F airplanes; and Model MD-10-10F and MD-10-30F airplanes; fuselage numbers (F/Ns) 1 through 446 inclusive.

(2) Model MD-11 and MD-11F airplanes; F/Ns 0447, 0448, 0449, 0451 through 0464 inclusive, 0466 through 0489 inclusive, 0491 through 0517 inclusive, 0519 through 0552 inclusive, and 0554 through 0646 inclusive.

Unsafe Condition

(d) This AD results from fuel system reviews conducted by the manufacturer. We are issuing this AD to prevent damage to the wire support bracket and wiring of the auxiliary hydraulic pump and, for certain airplanes, water intrusion through the electrical connectors of the auxiliary hydraulic pump. These conditions could lead to a potential ignition source in the right wheel well of the main landing gear (MLG) around the fuel tank, which, in combination with flammable fuel vapors, could result in fuel tank explosions and consequent loss of the airplane.

Compliance

(e) You are responsible for having the actions required by this AD performed within the compliance times specified, unless the actions have already been done.

Installation and Replacement for Certain Airplanes

(f) For Model DC-10-10 and DC-10-10F airplanes; Model DC-10-15 airplanes; Model DC-10-30 and DC-10-30F (KC-10A and KDC-10) airplanes; Model DC-10-40 and DC-10-40F airplanes; and Model MD-10-10F and MD-10-30F airplanes: Within 60 months after the effective date of this AD, do the actions specified in paragraph (f)(1) and (f)(2) of this AD.

(1) Fabricate a wire harness guard and install it in the right wheel well of the MLG, and do all related investigative and applicable corrective actions, by accomplishing all of the actions specified in the Accomplishment Instructions of Boeing Alert Service Bulletin DC10-29A146, Revision 1, dated April 6, 2005; except as provided by paragraph (h) of this AD. Do all applicable corrective actions before further flight. If any debris is found in the area around the wiring of the auxiliary hydraulic pump, before further flight, clean the area of the debris.

(2) Replace any electrical connector having part number (P/N) DC62E24-10SN or FC6DE24-10S of the auxiliary hydraulic pumps at the right wheel well of the MLG with improved electrical connectors having P/N DC62F24-10SN, and do the related investigative action before further flight, by accomplishing all of actions specified in the Accomplishment Instructions of McDonnell Douglas DC-10 Service Bulletin 29-135, dated September 8, 1993. If the auxiliary hydraulic system fails the test, before further flight, repair the auxiliary hydraulic system according to a method approved by the Manager, Los Angeles Aircraft Certification Office (ACO), FAA. Chapter 29-20-00 of the Boeing DC-10 Aircraft Maintenance Manual is one approved method.

Installation for Other Certain Airplanes

(g) For Model MD-11 and MD-11F airplanes: Within 60 months after the effective date of this AD, fabricate and install a wire harness guard in the right wheel well of the MLG, and do all related investigative and applicable corrective actions, by accomplishing all of the actions specified in the Accomplishment Instructions of Boeing Alert Service Bulletin MD11-29A060, dated April 30, 2001; except as provided by paragraph (h) of this AD. Do all applicable corrective actions before further flight. If any debris is found in the area around the wiring of the auxiliary hydraulic pump, before further flight, clean the area of the debris. Rivet P/N MS20470AD5-7, shown in the parts and material table in paragraph 2.C.2 of the service bulletin, is not a valid P/N; the correct P/N that must be used is P/N MS20470AD6-7.

Exception to Service Bulletins

(h) Where the Accomplishment Instructions of Boeing Alert Service Bulletin DC10-29A146, Revision 1, dated April 6, 2005; and Boeing Alert Service Bulletin MD11-29A060, dated April 30, 2001, specify doing a visual inspection of the wiring installations of the auxiliary hydraulic pump in the right main wheel well at station Y=1381 for chafing, do a general visual inspection.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Credit for Original Issue of Service Bulletin

(i) For Model DC-10-10 and DC-10-10F airplanes; Model DC-10-15 airplanes; Model DC-10-30 and DC-10-30F (KC-10A and KDC-10) airplanes; Model DC-10-40 and DC-10-40F airplanes; and Model MD-10-10F and MD-10-30F airplanes: Actions done before the effective date of this AD in accordance with Boeing Alert Service Bulletin DC10-29A146, dated April 30, 2001, are acceptable for compliance with the corresponding requirements of this AD.

Alternative Methods of Compliance (AMOCs)

(j)(1) The Manager, Los Angeles ACO, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Material Incorporated by Reference

(k) You must use the service information identified in Table 1 of this AD to perform the actions that are required by this AD, unless the AD specifies otherwise.

Table 1—Material Incorporated by Reference
Service bulletin | Revision level | Date
Boeing Alert Service Bulletin DC10-29A146 | 1 | April 6, 2005.
Boeing Alert Service Bulletin MD11-29A060 | Original | April 30, 2001.
McDonnell Douglas DC-10 Service Bulletin 29-135 | Original | September 8, 1993.

The Director of the Federal Register approved the incorporation by reference of these documents in accordance with 5 U.S.C. 552(a) and 1 CFR part 51. Contact Boeing Commercial Airplanes, Long Beach Division, 3855 Lakewood Boulevard, Long Beach, California 90846, Attention: Data and Service Management, Dept. C1-L5A (D800-0024), for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on September 1, 2006.
Kalene C. Yanamura,
Acting Manager, Transport Airplane Directorate, Aircraft Certification Service.

[FR Doc. E6-14939 Filed 9-11-06; 8:45 am]

BILLING CODE 4910-13-P